EXPORT-IMPORT BANK OF THE UNITED STATES

Economic Impact Policy

This notice is to inform the public that the Export-Import Bank of the United States has received an application to finance the export of approximately $35 million in U.S. equipment to a polypropylene production facility in Israel. The U.S. exports will enable the facility to produce approximately 200,000 metric tons of polypropylene per year. Initial production is expected to commence in early 2007. Available information indicates that this new production will be consumed in Israel, Italy and Turkey. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. 04-23445 Filed 10-19-04; 8:45 am]

BILLING CODE 6690-01-P